POSTAL SERVICE

Product Change—Priority Mail Express, Priority Mail, and USPS Ground Advantage Negotiated Service Agreements; Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: September 17, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
09/08/25 | PM-GA 848 | MC2025-1677 | K2025-1667
09/09/25 | PME-PM-GA 1411 | MC2025-1678 | K2025-1668
09/09/25 | PM-GA 849 | MC2025-1679 | K2025-1669
09/09/25 | PM-GA 850 | MC2025-1681 | K2025-1671
09/10/25 | PM-GA 851 | MC2025-1682 | K2025-1672
09/10/25 | PM-GA 852 | MC2025-1683 | K2025-1673
09/11/25 | PM 927 | MC2025-1684 | K2025-1674
09/11/25 | PM-GA 853 | MC2025-1685 | K2025-1675
09/12/25 | PM-928 | MC2025-1686 | K2025-1676
09/12/25 | PM-GA 854 | MC2025-1687 | K2025-1677
09/12/25 | PME-PM-GA 1412 | MC2025-1688 | K2025-1678

Documents are available at www.prc.gov.

Sean C. Robinson,
Attorney, Corporate and Postal Business Law.

[FR Doc. 2025-17940 Filed 9-16-25; 8:45 am]

BILLING CODE 7710-12-P